DEPARTMENT OF TRANSPORTATION

Federal Aviation Administration

14 CFR Part 91

[Docket No.: FAA-2014-0225; Amdt. No. 91-331]

RIN 2120-AK50

Prohibition Against Certain Flights in the Simferopol (UKFV) Flight Information Region (FIR)

AGENCY: Federal Aviation Administration (FAA), DOT.

ACTION: Immediately adopted final rule.

SUMMARY: This action prohibits certain flight operations in a portion of the Simferopol (UKFV) Flight Information Region (FIR) by all U.S. air carriers; U.S. commercial operators; persons exercising the privileges of a U.S. airman certificate, except when such persons are operating a U.S.-registered aircraft for a foreign air carrier; and operators of U.S.-registered civil aircraft, except when such operators are foreign air carriers. The FAA finds this action to be necessary to prevent a potential hazard to persons and aircraft engaged in such flight operations.

DATES: This final rule is effective on April 25, 2014, and remains in effect through April 27, 2015.

FOR FURTHER INFORMATION CONTACT: For technical questions concerning this action, contact Will Gonzalez, Air Transportation Division, Flight Standards Service Federal Aviation Administration, 800 Independence Avenue SW., Washington, DC 20591; telephone 202-267-8166; email will.gonzalez@faa.gov.

For legal questions concerning this action, contact Robert Frenzel, Office of the Chief Counsel, AGC-200, Federal Aviation Administration, 800 Independence Avenue SW., Washington, DC 20591; telephone (202) 267-7638; email robert.frenzel@faa.gov.

SUPPLEMENTARY INFORMATION:

Good Cause for Immediate Adoption

Title 5, United States Code (U.S.C.) § 553(b)(3)(B) authorizes agencies to dispense with notice and comment procedures for rules when the agency for “good cause” finds that those procedures are “impracticable, unnecessary, or contrary to the public interest.” In this instance, the FAA finds that notice and public comment to this immediately adopted final rule, as well as any delay in the effective date of this rule, are contrary to the public interest due to the immediate need to address the potential hazard to civil aviation that now exists in a portion of the Simferopol (UKFV) FIR, as described in the Background section of this notice.

Authority for This Rulemaking

The FAA is responsible for the safety of flight in the United States (U.S.) and for the safety of U.S. civil operators, U.S.-registered aircraft, and U.S.-certificated airmen throughout the world. The FAA's authority to issue rules on aviation safety is found in 49 U.S.C. Subtitle I, section 106(f), describes the authority of the FAA Administrator. Subtitle VII, Aviation Programs, describes in more detail the scope of the agency's authority. Section 40101(d)(1) provides that the Administrator shall consider in the public interest, among other matters, assigning, maintaining, and enhancing safety and security as the highest priorities in air commerce. Section 40105(b)(1)(A) requires the Administrator to exercise his authority consistently with the obligations of the U.S. Government under international agreements.

This rulemaking is promulgated under the authority described in Subtitle VII, Part A, Subpart III, Section 44701, General requirements. Under that section, the FAA is charged broadly with promoting safe flight of civil aircraft in air commerce by prescribing, among other things, regulations and minimum standards for practices, methods, and procedures the Administrator finds necessary for safety in air commerce and national security. This regulation is within the scope of that authority because it prohibits the persons subject to paragraph (a) of this Special Federal Aviation Regulation (SFAR) from conducting flight operations in a portion of the Simferopol (UKFV) FIR due to the potential hazard to the safety of such persons' flight operations described in the Background section of this document.

I. Overview of Immediately Adopted Final Rule

This action prohibits flight operations in a portion of the Simferopol (UKFV) FIR by all U.S. air carriers; U.S. commercial operators; persons exercising the privileges of a U.S. airman certificate, except when such persons are operating a U.S.-registered aircraft for a foreign air carrier; and operators of U.S.-registered civil aircraft, except when such operators are foreign air carriers. The FAA finds this action necessary to prevent a potential hazard to persons and aircraft engaged in such flight operations.

II. Background

The FAA has safety and national security concerns regarding flight operations in a portion of the Simferopol (UKFV) FIR. On March 28, 2014, the Russian Federation issued a Notice-to-Airmen (NOTAM) purporting to establish unilaterally a new FIR, effective April 3, 2014, in a significant portion of the Simferopol (UKFV) FIR. The affected airspace includes sovereign Ukrainian airspace over the Crimean Peninsula and the associated Ukrainian territorial sea, as well as international airspace managed by Ukraine over the Black Sea and the Sea of Azov under a regional air navigation agreement approved by the Council of the International Civil Aviation Organization (ICAO). This action by the Russian Federation contradicts international law, including provisions of the Convention on International Civil Aviation, done at Chicago, December 7, 1944 (also known as the “Chicago Convention”) and the standards established in Annex 11 to the Chicago Convention. Ukraine has rejected the Russian Federation's purported establishment of a new FIR within the existing Simferopol (UKFV) FIR and continues to provide air traffic control services in both Ukrainian territorial airspace and international airspace assigned to Ukraine.

In response to the Russian Federation's actions, Ukraine established a prohibited area over the Crimean Peninsula for flight operations below flight level 290 by means of a NOTAM and closed various air traffic services (ATS) route segments. The Russian Federation further responded by the issuance of a NOTAM that rejected and directly conflicts with Ukrainian NOTAMs concerning the establishment of the prohibited area and the route segment closures. On April 2, 2014, ICAO's Regional Director for Europe and the North Atlantic Regions issued a state letter to countries and their civil aviation authorities highlighting the possible existence of serious risks to the safety of international civil flights. ICAO stated that, due to the unsafe situation where more than one ATS provider may be controlling flights within the same airspace from April 3, 2014, 0600 Universal Time Coordinated (UTC) onwards, consideration should be given to implementing measures to avoid the airspace and to circumnavigate the Simferopol (UKFV) FIR with alternative routings.

In the FAA's view, the potential for civil aircraft to receive confusing and conflicting air traffic control instructions from both Ukrainian and Russian ATS providers while operating in the portion of the Simferopol (UKFV) FIR covered by this SFAR is unsafe and presents a potential hazard to civil flight operations in the disputed airspace. In addition, political and military tension between Ukraine and the Russian Federation remains high, and compliance with air traffic control instructions issued by the authorities of one country could result in a civil aircraft being misidentified as a threat and intercepted or otherwise engaged by air defense forces of the other country.

This SFAR will remain in effect for one year. During this period, the FAA will continue to actively evaluate the area and the airports in the region to determine to what extent U.S. civil operators may be able to safely operate in the region. Adjustments to the SFAR may be appropriate if the risk to aviation safety and security changes. The FAA may amend or rescind the SFAR as necessary prior to the expiration date.

Because the circumstances described herein warrant immediate action by the FAA, I find that notice and public comment under 5 U.S.C. 553(b)(3)(B) are impracticable and contrary to the public interest. However, we will accept any comments regarding the impact of this action for consideration in future rulemaking action to amend or rescind this SFAR. Further, I find that good cause exists under 5 U.S.C. 553(d) for making this rule effective immediately upon issuance. I also find that this action is fully consistent with the obligations under 49 U.S.C. 40105 to ensure that I exercise my duties consistently with the obligations of the United States under international agreements.

Approval Based on Authorization Request of an Agency of the United States Government

If a department, agency, or instrumentality of the U.S. Government determines that it has a critical need to engage any person covered under SFAR No. 113, § 91.1607, including a U.S. air carrier or a U.S. commercial operator, to conduct a charter to transport civilian or military passengers or cargo through the portion of the Simferopol (UKFV) FIR covered by this SFAR, that department, agency, or instrumentality may request the FAA to approve persons covered under SFAR No.113, § 91.1607, to conduct such operations. An approval request must be made in a letter signed by an appropriate senior official of the requesting department, agency, or instrumentality of the U.S. Government; the letter must be sent to the Associate Administrator for Aviation Safety (AVS-1), Federal Aviation Administration, 800 Independence Avenue SW., Washington, DC 20591. Electronic submissions are acceptable, and the requesting entity may request an electronic copy of the FAA's response. If a requestor wishes to make an electronic submission to the FAA, the requestor should contact the Air Transportation Division, Flight Standards Service at (202) 267-8166 for the appropriate email address, as the division anticipates an email system change in the near future that would likely make any email address published here outdated. A single letter may request approval from the FAA for multiple persons covered under SFAR No. 113, § 91.1607, and/or for multiple flight operations. To the extent known, the letter must identify the person(s) expected to be covered under the SFAR on whose behalf the U.S. Government department, agency, or instrumentality is seeking FAA approval, and it must describe—

• The proposed operation(s), including the nature of the mission being supported;

• The service to be provided by the person(s) covered by the SFAR;

• To the extent known, the specific locations within the portion of the Simferopol (UKFV) FIR covered by this SFAR where the proposed operation(s) will be conducted; and

• The method by which the department, agency, or instrumentality will provide, or how the operator will otherwise obtain, current threat information and an explanation of how the operator will integrate this information into all phases of its proposed operations (e.g., pre-mission planning and briefing, in-flight, and post-flight).

The request for approval must also include a list of operators, including subcontractors, with whom the U.S. Government department, agency, or instrumentality requesting FAA approval has a current contract(s), grant(s), or cooperative agreement(s) for specific flight operations in the Simferopol (UKFV) FIR. Additional such operators may be identified to the FAA at any time after the FAA approval is issued. Updated lists should be sent to the email address specified by the Air Transportation Division, (202) 267-8166.

If an approval request includes classified information, requestors may contact Aviation Safety Inspector Will Gonzalez for instructions on submitting it to the FAA. His contact information is listed in the For Further Information Contact section of this final rule.

FAA approval of the operation under SFAR No. 113, § 91.1607, does not relieve persons subject to this SFAR of their responsibility to comply with all applicable FAA rules and regulations. Operators of civil aircraft will have to comply with the conditions of their certificate and Operations Specifications (OpSpecs). In addition, operators will have to comply with all rules and regulations of other U.S. Government departments or agencies that may apply to the proposed operation, including, but not limited to, the Transportation Security Regulations issued by the Transportation Security Administration, Department of Homeland Security.

Approval Conditions

When the FAA approves the request, the FAA's Aviation Safety Organization (AVS) will send a letter to the requesting department, agency, or instrumentality confirming that the FAA's approval is subject to all of the following conditions:

(1) The approval will stipulate those procedures and conditions that limit, to the greatest degree possible, the risk to the operator, while still allowing the operator to achieve its operational objectives.

(2) Any approval will specify that the operation is not eligible for coverage under a premium war risk insurance policy issued by the FAA under chapter 443 of title 49, U.S. Code.¹

¹ If and when, in connection with an operator's contract with a department, agency, or instrumentality of the U.S. Government, an operation is covered by a non-premium war risk insurance policy issued by FAA under 49 U.S.C. 44305, coverage under that operator's FAA premium war risk insurance policy is suspended as a condition of that premium policy.

(3) If the proposed operation would have been covered by a premium war risk insurance policy issued by the FAA, but for SFAR No. 113, § 91.1607, the FAA will issue an endorsement to that premium policy that specifically excludes coverage for any operations into, out of, within, or through the portion of the Simferopol (UKFV) FIR covered by this SFAR, including operations under a flight plan that contemplates landing in or taking off from Crimea. The endorsement to the premium policy will take effect before the approval's effective date. The operator must further establish that it has obtained substitute commercial war risk coverage for operations in the portion of the Simferopol (UKFV) FIR covered by this SFAR or that the operation would be covered by an effective non-premium war risk insurance policy issued by the FAA under chapter 443 of title 49, U.S. Code. The exclusion specified in the endorsement remains in effect notwithstanding the issuance of any approval under, or exemption from, this SFAR (the chapter 443 premium policy refers to such approval as a “waiver” and such exemption as an “exclusion”). Additionally, before any approval takes effect, the operator must submit to the FAA a written release of the U.S. Government (including but not limited to the United States of America, as Insurer) from all damages, claims and liabilities, including without limitation legal fees and expenses, and the operator's agreement to indemnify the U.S. Government (including but not limited to the United States of America, as Insurer) with respect to any and all third-party damages, claims and liabilities, including without limitation legal fees and expenses, relating to any event arising from or related to the approved operations in the portion of the Simferopol (UKFV) FIR covered by this SFAR. This waiver of claims does not preclude an operator from raising a claim under an applicable non-premium war risk insurance policy issued by the FAA.

(4) Other conditions determined by the FAA, including those that may be imposed in OpSpecs.

If the proposed operation or operations are approved, the FAA will issue OpSpecs to the certificate holder authorizing these operations. The FAA will notify the departments, agencies, or instrumentalities that request FAA approval of civil flight operations to be conducted by one or more persons described in paragraph (a) of this SFAR of any additional conditions beyond those contained in the approval letter, if the operations are approved. The requesting department, agency, or instrumentality must have a contract (includes subcontracts), grant, or cooperative agreement with the person(s) described in paragraph (a) of this SFAR on whose behalf the department, agency, or instrumentality requests FAA approval.

Request for Exemptions

Any operations not conducted under the approval process discussed above must be conducted under an exemption from this SFAR. A request by any person covered under SFAR No. 113, § 91.1607, for an exemption must comply with 14 CFR part 11, and will require exceptional circumstances beyond those contemplated by the approval process set forth in this SFAR. In addition to the information required by 14 CFR § 11.81, as a minimum, the petitioner must describe in its submission to the FAA—

• The proposed operation(s), including the nature of the operation;

• The service to be provided by the person(s) covered by the SFAR;

• The specific locations within the portion of the Simferopol (UKFV) FIR covered by this SFAR where the proposed operation(s) will be conducted, and;

• The method by which the operator will obtain current threat information and an explanation of how the operator will integrate this information into all phases of its proposed operations (e.g., pre-mission planning and briefing, in-flight, and post-flight).

Additionally, the endorsement of any premium war risk insurance policy issued under chapter 443 of title 49, U.S. Code, and a waiver and indemnification agreement, all as referred to above, will also be required as a condition of any exemption issued under SFAR No. 113, § 91.1607. The FAA recognizes that there may be operations conducted for the governments of other countries with the support of the U.S. Government that may be affected by this SFAR. While these operations will not be permitted through the approval process, the FAA will process exemption requests for such operations on an expedited basis and prior to any private exemption requests.

IV. Regulatory Evaluation, Regulatory Flexibility Determination, International Trade Impact Assessment, and Unfunded Mandates Assessment

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354), as codified in 5 U.S.C. 603, requires agencies to analyze the economic impact of regulatory changes on small entities. Third, the Trade Agreements Act of 1979 (Pub. L. 96-39), as codified in 19 U.S.C. 2532, prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4), as codified in 2 U.S.C. 1532, requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order (DOT) 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this final rule. The reasoning for this determination follows:

This rule prohibits flights in an area of airspace over the Crimean Peninsula, the associated Ukrainian territorial sea, and adjacent international airspace assigned to Ukraine where both the Ukrainian and Russian air traffic services claim jurisdiction. This situation could result in confusing or conflicting instructions to operators of civil aircraft, creating a potentially unsafe operating environment. The alternative flight routes result in some additional fuel and operations costs to the operators, as well as some costs attributed to passenger time. By prohibiting unsafe flights, the benefits of this rule will exceed the minimal flight deviation costs.

In conducting these analyses, FAA has determined this final rule is a “significant regulatory action,” as defined in section 3(f) of Executive Order 12866, because it raises novel policy issues contemplated under that executive order. The rule is also “significant” as defined in DOT's Regulatory Policies and Procedures. The final rule, if adopted, will not have a significant economic impact on a substantial number of small entities, will not create unnecessary obstacles to international trade and will not impose an unfunded mandate on state, local, or tribal governments, or on the private sector.

A. Regulatory Flexibility Analysis

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

U.S. certificate holders affected by this final rule are predominately large passenger and all-cargo carriers. There are some small entity operators flying under U.S. government contract and some operators providing flights that support oil operations that the FAA anticipates will also be affected. Many of these operations are conducted by small entities, but due to the immediacy of the potential harm to U.S. certificate holders, their passengers, crew, and cargo, there is not a sufficient amount of time to ascertain exact numbers. There are likely to be enough such operators to be considered a substantial number of small entities. While we have not performed a full cost benefit analysis of this rule, we estimate that approximately 10 to 12 U.S. carrier operations per day will be impacted by this rule, and that the average cost of avoiding the disputed air space is approximately $2,000 per flight, equating to a cost estimate to U.S. carriers of $8.8-11 million, annually. This estimate does not include additional operations costs and time costs. However, the $2,000 per flight estimate includes impacts on U.S. air carriers, including charter operations. The $2,000 per flight estimate is calculated using an air carrier-provided average additional fuel burn estimate for the deviation of 4,000 pounds of fuel, at the total system average fuel price for U.S. air carriers, $3.05 per gallon (“Fuel Cost and Consumption,” US DOT Bureau of Transportation Statistics, Monthly report Jan. 2014), and a conversion factor of 6.84 pounds of fuel per gallon (Air BP Handbook of Products, Air BP Ltd 2000). Therefore, as provided in section 605(b), the head of the FAA certifies that this rulemaking will not result in a significant economic impact on a substantial number of small entities.

B. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this final rule and determined that its purpose is to protect the safety of U.S. civil aviation from a potential hazard outside the U.S. Therefore, the rule is in compliance with the Trade Agreements Act.

C. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151.0 million in lieu of $100 million. This final rule does not contain such a mandate; therefore, the requirements of Title II of the Act do not apply.

D. Paperwork Reduction Act

The Paperwork Reduction Act of 1995 (44 U.S.C. 3507(d)) requires that the FAA consider the impact of paperwork and other information collection burdens imposed on the public. The FAA has determined that there is no new requirement for information collection associated with this immediately adopted final rule.

E. International Compatibility and Cooperation

(1) In keeping with U.S. obligations under the Chicago Convention, it is FAA policy to conform to ICAO Standards and Recommended Practices to the maximum extent practicable. The FAA has determined that there are no ICAO Standards and Recommended Practices that correspond to these proposed regulations.

(2) Executive Order 13609, Promoting International Regulatory Cooperation, promotes international regulatory cooperation to meet shared challenges involving health, safety, labor, security, environmental, and other issues and to reduce, eliminate, or prevent unnecessary differences in regulatory requirements. The Russian Federation's unilateral attempt to establish a new FIR in Ukrainian territorial airspace and international airspace managed by Ukraine threatens to undermine the framework for international regulatory cooperation in civil aviation established under the Chicago Convention. This action by the FAA contributes to the international community's efforts to uphold that framework.

F. Environmental Analysis

FAA Order 1050.1E identifies FAA actions that are categorically excluded from preparation of an environmental assessment or environmental impact statement under the National Environmental Policy Act (NEPA) in the absence of extraordinary circumstances. The FAA has determined this rulemaking action qualifies for the categorical exclusion identified in paragraph 312(f) and involves no extraordinary circumstances.

The FAA has reviewed the implementation of the proposed SFAR and determined it is categorically excluded from further environmental review according to FAA Order 1050.1E, “Environmental Impacts: Policies and Procedures,” paragraph 312(f). The FAA has examined possible extraordinary circumstances and determined that no such circumstances exist. After careful and thorough consideration of the proposed action, the FAA finds that the proposed Federal action does not require preparation of an EA or EIS in accordance with the requirements of NEPA, Council on Environmental Quality (CEQ) regulations, and FAA Order 1050.1E.

V. Executive Order Determinations

A. Executive Order 13132, Federalism

The FAA has analyzed this immediately adopted final rule under the principles and criteria of Executive Order 13132, Federalism. The agency determined that this action will not have a substantial direct effect on the States, or the relationship between the Federal Government and the States, or on the distribution of power and responsibilities among the various levels of government, and, therefore, does not have Federalism implications.

B. Executive Order 13211, Regulations That Significantly Affect Energy Supply, Distribution, or Use

The FAA analyzed this immediately adopted final rule under Executive Order 13211, Actions Concerning Regulations That Significantly Affect Energy Supply, Distribution, or Use (May 18, 2001). The agency has determined that it is not a “significant energy action” under the executive order and it is not likely to have a significant adverse effect on the supply, distribution, or use of energy.

VI. How To Obtain Additional Information

A. Rulemaking Documents

An electronic copy of a rulemaking document may be obtained by using the Internet—

1. Search the Federal Document Management System (FDMS) Portal (http://www.regulations.gov);

2. Visit the FAA's Regulations and Policies Web page at http://www.faa.gov/regulations_policies/ or

3. Access the Government Printing Office's Web page at: http://www.gpo.gov/fdsys/.

Copies may also be obtained by sending a request (identified by notice, amendment, or docket number of this rulemaking) to the Federal Aviation Administration, Office of Rulemaking, ARM-1, 800 Independence Avenue SW., Washington, DC 20591, or by calling (202) 267-9680.

B. Small Business Regulatory Enforcement Fairness Act

The Small Business Regulatory Enforcement Fairness Act of 1996 (SBREFA) requires FAA to comply with small entity requests for information or advice about compliance with statutes and regulations within its jurisdiction. A small entity with questions regarding this document may contact its local FAA official, or the person listed under the For Further Information Contact section at the beginning of the preamble. To find out more about SBREFA on the Internet, visit http://www.faa.gov/regulations_policies/rulemaking/sbre_act/.

List of Subjects in 14 CFR Part 91

Air traffic control, Aircraft, Airmen, Airports, Aviation safety, Freight, Ukraine.

The Amendment

In consideration of the foregoing, the Federal Aviation Administration amends chapter I of Title 14, Code of Federal Regulations as follows:

PART 91—GENERAL OPERATING AND FLIGHT RULES

1. The authority citation for part 91 continues to read as follows:

Authority: 49 U.S.C. 106(f), 106(g), 1155, 40103, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Add new § 91.1607 to subpart M to read as follows:

§ 91.1607 Special Federal Aviation Regulation No. 113—Prohibition Against Certain Flights in the Simferopol (UKFV) Flight Information Region (FIR).

(a) Applicability. This Special Federal Aviation Regulation (SFAR) applies to the following persons:

(1) All U.S. air carriers and U.S. commercial operators;

(2) All persons exercising the privileges of an airman certificate issued by the FAA, except such persons operating U.S.-registered aircraft for a foreign air carrier; and

(3) All operators of U.S.-registered civil aircraft, except where the operator of such aircraft is a foreign air carrier.

(b) Flight prohibition. Except as provided in paragraphs (c) and (d) of this section, no person described in paragraph (a) of this section may conduct flight operations in the portion of the Simferopol (UKFV) FIR within the following lateral limits: 454500N 0345800E-460900N 0360000E-460000N 0370000E-452700N 0364100E-452242N 0364100E-451824N 0363524E-451442N 0363542E-451218N 0363200E-450418N 0363418E-445600N 0363700E-443100N 0364000E-424400N 0361600E-424700N 0340000E-424800N 0304500E-434100N 0303200E-441500N 0302400E-444600N 0300900E-455400N 0322500E-454900N 0324700E-455400N 0330600E-455600N 0332700E-455900N 0332900E—then along the Crimea border to 454500N 0345800E. See Figure 1 below for a depiction of the affected airspace.

(c) Permitted operations. This section does not prohibit persons described in paragraph (a) of this section from conducting flight operations in the portion of the Simferopol (UKFV) FIR described in paragraph (b) of this section, provided that such flight operations are conducted under a contract, grant or cooperative agreement with a department, agency, or instrumentality of the U.S. government with the approval of the FAA, or under an exemption issued by the FAA. The FAA will process requests for approval or exemption in a timely manner, with an order of preference being: first, for those operations in support of U.S. government-sponsored activities; second, for those operations in support of government-sponsored activities of a foreign country with the support of a U.S. government department, agency, or instrumentality; and third, for all other operations.

(d) Emergency situations. In an emergency that requires immediate decision and action for the safety of the flight, the pilot in command of an aircraft may deviate from this section to the extent required by that emergency. Except for U.S. air carriers and commercial operators that are subject to the requirements of 14 CFR parts 119, 121, 125, or 135, each person who deviates from this section must, within 10 days of the deviation, excluding Saturdays, Sundays, and Federal holidays, submit to the nearest FAA Flight Standards District Office (FSDO) a complete report of the operations of the aircraft involved in the deviation, including a description of the deviation and the reasons for it.

(e) Expiration. This SFAR will remain in effect until April 27, 2015. The FAA may amend, rescind, or extend this SFAR as necessary.

BILLING CODE 4910-13-P

Issued under authority provided by 49 U.S.C. 106(f), 40101(d)(1), 40105(b)(1)(A), 44701(a)(5), in Washington, DC, on April 23, 2014.
Michael G. Whitaker,
Deputy Administrator.

[FR Doc. 2014-09545 Filed 4-23-14; 4:15 pm]

BILLING CODE 4910-13-C